GENERAL SERVICES ADMINISTRATION

[OMB Control No. 3090-00XX; Docket 2010-0002; Sequence 8]

General Services Administration Acquisition Regulation; Submission for OMB Review; Sales Practice Format—Supplies and/or Services With an Established Catalog Price and Sales Practices Format—Supplies and/or Services With Market Pricing Without an Established Catalog Price

AGENCY: Office of the Chief Acquisition Officer, GSA.

ACTION: Notice of a request for comments regarding a new OMB clearance.

SUMMARY: Under the provisions of the Paperwork Reduction Act of 1995 (44 U.S.C. Chapter 35), the General Services Administration will be submitting to the Office of Management and Budget (OMB) a request to review and approve a new information collection requirement regarding Sales Practice Format—Supplies and/or Services with an Established Catalog Price and Sales Practices Format—Supplies and/or Services with Market Pricing without an Established Catalog Price. A request for public comments was published in the Federal Register at 74 FR 4596, January 26, 2009. No comments were received.

Public comments are particularly invited on: Whether this collection of information is necessary and whether it will have practical utility; whether our estimate of the public burden of this collection of information is accurate, and based on valid assumptions and methodology; ways to enhance the quality, utility, and clarity of the information to be collected.

DATES: Submit comments on or before: April 19, 2010.

FOR FURTHER INFORMATION CONTACT: Mr. Warren Blankenship, Procurement Analyst, Contract Policy Branch, at telephone (202) 501-1900 or via e-mail at warren.blankenship@gsa.gov.

ADDRESSES: Submit comments regarding this burden estimate or any other aspect of this collection of information, including suggestions for reducing this burden to the GSA Desk Officer, OMB, Room 10236, NEOB, Washington, DC 20503, and a copy to the Regulatory Secretariat (MVCB), General Services Administration, 1800 F Street, NW., Room 4041, Washington, DC 20405. Please cite OMB Control No. 3090-00XX, Sales Practice Format—Supplies and/or Services with an Established Catalog Price and Sales Practices Format—Supplies and/or Services with Market Pricing without an Established Catalog Price, in all correspondence.

SUPPLEMENTARY INFORMATION:

A. Purpose

552.238-60—Sales Practices Format—Supplies and/or Services with an Established Catalog Price (SPF-1) and 552.238-61—Sales Practices Format—Supplies and/or Services with Market pricing without an Established Catalog Price (SPF-2). Submission of a Federal Supply Schedule offer or a specific type of modification of an FSS contract requires an Offeror to provide data regarding commercial sales practices (e.g., catalog prices, quantity/volume discounts, concessions, etc). Prospective FSS Offerors and/or current contractors are required to provide information as outlined in Program solicitations to assist the Contracting Officer in evaluation of the offer as well as formulating negotiation objectives.

B. Annual Reporting Burden

Number of Respondents: 18,000.

Responses per Respondent: 3.5.

Annual Responses: 63,000.

Average Burden per Response: 5.

Total Burden Hours: 315,000.

Public reporting burden for this collection of information is estimated to average 5 hours per response, including the time for reviewing instructions, searching existing data sources, gathering and maintaining the data needed, and completing and reviewing the collection of information.

Obtaining Copies of Proposals: Requesters may obtain a copy of the information collection documents from the General Services Administration, Regulatory Secretariat (MVCB), 1800 F Street, NW., Room 4041, Washington, DC 20405, telephone (202) 501-4755. Please cite OMB Control No. 3090-00XX, Sales Practice Format—Supplies and/or Services with an Established Catalog Price and Sales Practices Format—Supplies and/or Services with Market Pricing without an Established Catalog Price, in all correspondence.

Dated: March 5, 2010.
Al Matera,
Director, Acquisition Policy Division.

[FR Doc. 2010-5928 Filed 3-17-10; 8:45 am]

BILLING CODE 6820-34-P